DEPARTMENT OF THE TREASURY

Internal Revenue Service

26 CFR Part 1

[REG-164370-05]

RIN 1545-BF27

Section 108(e)(8) Application to Partnerships; Hearing Cancellation

AGENCY: Internal Revenue Service (IRS), Treasury.

ACTION: Cancellation of notice of public hearing on proposed rulemaking.

SUMMARY: This document cancels a public hearing on proposed rulemaking relating to the application of section 108(e)(8) of the Internal Revenue Code to partnerships and their partners.

DATES: The public hearing, originally scheduled for February 19, 2009, at 10 a.m., is cancelled.

FOR FURTHER INFORMATION CONTACT: Richard A. Hurst of the Publications and Regulations Branch, Legal Processing Division, Associate Chief Counsel (Procedure and Administration), at Richard.A.Hurst@irscounsel.treas.gov.

SUPPLEMENTARY INFORMATION: A notice of public hearing that appeared in the Federal Register on Friday, October 31, 2008 (73 FR 64903), announced that a public hearing was scheduled for February 19, 2009, at 10 a.m., in the auditorium, Internal Revenue Building, 1111 Constitution Avenue, NW., Washington, DC. The subject of the public hearing is under sections 108 and 721 of the Internal Revenue Code.

The public comment period for these regulations expired on January 29, 2009. Outlines of topics to be discussed at the hearing were due on January 27, 2009. The notice of proposed rulemaking and notice of public hearing instructed those interested in testifying at the public hearing to submit an outline of the topics to be addressed. As of Tuesday, February 3, 2009, no one has requested to speak. Therefore, the public hearing scheduled for February 19, 2009, is cancelled.

Guy Traynor,
Acting Chief, Publications and Regulations Branch, Legal Processing Division, Associate Chief Counsel, (Procedure and Administration).

[FR Doc. E9-2830 Filed 2-10-09; 8:45 am]

BILLING CODE 4830-01-P